DEPARTMENT OF VETERANS AFFAIRS

Advisory Committee on Prosthetics and Special-Disabilities Programs, Notice of Meeting

The Department of Veterans Affairs (VA) gives notice under the Federal Advisory Committee Act, 5 U.S.C. 10, that the Advisory Committee on Prosthetics and Special-Disabilities is having a meeting and site visit to be held on April 18-19, 2023. The meeting sessions will begin and end as follows:

Dates | Times
April 18, 2023 | 8:30 a.m. to 4:30 p.m. Eastern Standard Time (EST).
April 19, 2023 | 8:30 a.m. to 1 p.m. EST.

The meeting will be a hybrid meeting, held in-person at the Spinal Cord Injury (SCI) Building. Middle Dining Room, James A. Haley Veterans Hospital, 13000 Bruce B. Downs Boulevard, Tampa, Florida; and virtually via WebEx conferencing. A limited number of public stakeholder seats will be made available due to ongoing health and safety protocols that are enforced at the James A. Haley Veterans Hospital VA Tampa Healthcare System; the public also may attend the meeting virtually via WebEx conferencing. Masked are required during the meeting. Sessions will not be open to the public when the Committee is conducting tours of VA facilities. Tours of VA facilities are closed to protect Veterans' privacy and personal information, in accordance with 5 U.S.C. 552b(c)(6).

The purpose of the Committee is to advise the Secretary of Veterans Affairs on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On April 18, 2023, the Committee will convene in open (hybrid) sessions, from 8:30 a.m.-10 a.m. EST, with introductory remarks and a presentation from the Advisory Committee Management Office. The Committee will convene closed sessions from 10 a.m.-3 p.m. EST as the Committee members tour the Tampa Polytrauma Rehabilitation Center; Spinal Cord Injury Center; Amputation Specialty Clinic and Prosthetic Fabrication Lab. Beginning at 3 p.m. EST, the meeting session will reconvene an open (hybrid) session; and the day will conclude with presentations from VA's National Occupational Therapy Program; National Physical Therapy Program; and National Spinal Cord Injury System of Care Program.

On April 19, 2023, the Committee will convene in open sessions at the Spinal Cord Injury (SCI) Building, Middle Dining Room, James A. Haley Veterans Hospital with presentations on VA's National Physical Medicine and Rehabilitation; Polytrauma System of Care; Amputation System of Care; Chiropractic System of Care; and VA's Orthotic and Pedorthic Clinical Services Programs.

The Committee will be in open session for an abbreviated time; therefore, no time will be allocated for receiving oral presentations from the public. Members of the public may submit written statements for review by the Committee in advance of the meeting. Public comments may be received no later than April 11, 2023, for inclusion in the official meeting record. Please send these comments to Dr. Lauren Racoosin, Designated Federal Officer, Rehabilitation and Prosthetic Services, Veterans Health Administration, at Lauren.Racoosin@va.gov.

Due to ongoing health and safety protocols, there will be limited seating at this facility. Only those members of the public (first 10 public stakeholders) who confirm their attendance will be allowed to attend in-person. Masked are required during the meeting. In order to accommodate your in-person attendance, please notify Dr. Racoosin at Lauren.Racoosin@va.gov; also, any member of the public seeking additional information should contact Dr. Racoosin. Members of the public who prefer to attend the meeting virtually may join using the WebEx conferencing link below:

https://veteransaffairs.webex.com/veteransaffairs/j.php?MTID=mb4279e783f106b7eefaf3d67e0c17c05.

To join by phone 14043971596/Access code: 2764 861 8609.

Recordings and transcript of the meeting will be posted on the Advisory Committee on Prosthetics and Special-Disabilities Programs website: https://www.va.gov/ADVISORY/Advisory_Committee_on_Prosthetics_and_Special_Disabilities_Programs_Statutory.asp after the meeting.

Dated: March 14, 2023.
Jelessa M. Burney,
Federal Advisory Committee Management Officer.

[FR Doc. 2023-05547 Filed 3-17-23; 8:45 am]

BILLING CODE P